POSTAL SERVICE

39 CFR Part 111

Experimental Outside-County Periodicals Co-Palletization Discounts for High-Editorial, Heavy-Weight, Small-Circulation Publications

AGENCY: Postal Service.

ACTION: Interim rule.

SUMMARY: This interim rule provides standards for a Postal Service™ experiment. The experiment will test whether additional rate incentives would encourage the co-palletization and dropshipment of currently sacked bundles of individual Periodicals publications that have high-editorial content, are heavier weight, and have small mailed circulation. This interim rule will implement editorial per-pound discounts that are based on the entry points and zones skipped resulting from dropshipping and co-palletization. The editorial per-pound discounts, resulting from Docket No. MC2004-1 at the Postal Rate Commission, would apply to pieces in bundles placed on sectional center facility (SCF) and area distribution center (ADC) pallets that are dropshipped to either a destination area distribution center (DADC) or a destination sectional center facility (DSCF). The interim rule includes procedures for preparing and documenting co-palletized mailings and for requesting approval to participate in the experiment.

Co-palletization is designed to move publications, big and small, out of sacks and onto pallets with an additional advantage of mail being entered closer to destination for better service. Both of these changes are expected to make the processing of Periodicals mail more efficient and less expensive. This change is especially beneficial in the case of smaller publications that are prepared in smaller sacks largely entered at the origin.

DATES: This interim rule is effective October 3, 2004. Applications for participation in the experiment will be available beginning September 1, 2004. The starting date for the experiment is October 3, 2004. Comments on the standards must be received on or before October 2, 2004.

ADDRESSES: Written comments should be mailed or delivered to the Manager, Mailing Standards, U.S. Postal Service, 475 L'Enfant Plaza SW., Room 3436, Washington, DC 20260-3436. Copies of all written comments will be available for inspection and photocopying at U.S. Postal Service Headquarters Library, 475 L'Enfant Plaza SW., Washington, DC, between 9 a.m. and 4 p.m., Monday through Friday.

FOR FURTHER INFORMATION CONTACT: Donald Lagasse, (202) 268-7269; Donald.T.Lagasse@usps.gov.

SUPPLEMENTARY INFORMATION: The Postal Service offers certain worksharing incentives in the form of discounts to encourage palletization and dropshipping of Periodicals mailings. Co-palletization allows mailers to combine separately presorted bundles of different titles and editions on pallets to achieve the minimum pallet weight required to take advantage of current pallet and dropshipment discounts for Periodicals mail (e.g., 250 pounds of mail to a destination area distribution center (DADC)).

Effective April 20, 2003, the Postal Service implemented the Experimental Outside-County Periodicals Co-Palletization Classification (Docket No. MC2002-3) that provided two additional per-piece discounts to co-palletized Periodicals that could not otherwise be palletized because they lacked sufficient volume and density. The experimental discounts are available for pieces in Periodicals mailings and mailing segments that would have otherwise been prepared in sacks but now may be prepared on ADC or sectional center facility (SCF) pallets and dropshipped to DADCs and DSCFs as a result of co-palletization.

A report filed with the Postal Rate Commission (See http://www.prc.gov under Docket No. MC2002-3) in May 2004 shows over 9 million co-palletized pieces with a corresponding removal of over 180,000 sacks from Postal Service operations. We expect additional publications, printers, and consolidators to participate in the existing experiment, and believe that this experiment will lead to better preparation and deeper penetration of Periodicals mail into the Postal Service system.

While the initial experiment has been reasonably successful, current per-piece incentives under the experiment are not sufficient to encourage co-palletization and dropshipment of publications with high editorial content. The current co-palletization experiment provides additional per-piece incentives when mailers go through the extra step of combining their mailings to build pallets and dropship them to destination ADCs and SCFs. Because the current rate structure has a flat editorial pound rate, publications that contain little or no advertising have little incentive to dropship, especially if they have heavier copy weights and lack the density to make single-publication pallets.

On February 25, 2004, pursuant to 39 U.S.C. 3623, the Postal Service filed with the Postal Rate Commission (PRC) a request for a decision recommending new experimental co-palletization incentives for Outside-County Periodicals. The request was designated as Docket No. MC2004-1 by the PRC. The PRC recommended the experimental classification change and new discounts on July 7, 2004. This recommendation was approved by the Board of Governors on July 19, 2004; and the Board of Governors set October 3, 2004, as the anticipated implementation date for the experiment.

The Postal Service will implement a 2-year experimental classification change to allow high-editorial, heavier weight, small circulation publications to receive the new proposed discounts on editorial pounds for pieces that are co-palletized and dropshipped, and meet all required conditions. The 2-year period will allow the Postal Service to measure the impact of the level of the discount structure. Also, the classification change extends the current co-palletization experiment (Docket No. MC2002-3) so that both experiments conclude at the same time. It is hoped that any future classification or structural change in the rate schedule would address both experiments together. The proposed classification language would also allow both experiments to continue until a proposal for a permanent discount is resolved, if that proposal is filed before the end of the 2-year period.

Based on the response to the current experimental discounts, the Postal Service concluded that an additional rate design solution was needed to provide a fair, equitable, and adequate incentive. The new discounts will apply to editorial pounds based on the cost savings that the Postal Service would realize as a result of the mail being prepared on pallets and having those pallets dropshipped (i.e., skipping zones). The discounts will reflect the difference between the original zone for the mail if entered at the origin mailer's plant in sacks and the DADC or DSCF entry point resulting from co-palletization and dropshipment.

General Description

The proposed discounts would apply exclusively to publications with the following characteristics:

a. Advertising content of 15 percent or less;

b. Copy weight of 9 ounces or more; and

c. Mailed circulation of 75,000 pieces or less (including all editions, issues, and supplemental mailings).

These characteristics are designed to limit the experiment to those publications most in need of an alternative discount structure to meet the key objectives. The proposed discounts would apply to co-palletized bundles of Periodicals mail that remain intact (the same bundles before and after co-palletization) that move from sacks (absent co-palletization) to pallets presorted to the ADC or SCF and that are entered at the appropriate destination facility. A publication that would otherwise be prepared in sacks, because it cannot meet the required 250-pound minimum for an ADC pallet at the bindery, would qualify for the discounts if it were co-palletized with other publications on an ADC or SCF pallet and dropshipped to either the destination ADC or SCF.

Residual mail from a qualifying publication that remained after pallets were prepared during the initial presort will also qualify for the proposed discounts, as long as it is co-palletized and dropshipped (e.g., less than 250 pounds of mail remaining for an ADC, after SCF pallets are prepared for the ZIP Codes™ in that ADC service area). The consolidator/mailer could preserve originally presorted mail for a single publication on 5-digit, 3-digit (optional), SCF, and ADC pallets of 250 or more pounds, but this mail will not qualify for the experimental co-palletization discounts. Mailers could build upon originally presorted SCF and ADC pallets, but only the co-palletized pieces with less than 250 pounds per title or version for each ADC destination, if the pieces were independently presorted, would qualify for the co-palletization incentives. Multiple versions or titles that are presorted together into bundles through a selective binding operation will qualify, if, as a result of co-palletization, the presorted bundles move from sacks to pallets that are dropshipped, and meet all other standards for the discounts.

Other dropship and palletization incentives available in the current rate schedule will apply to all pieces based on their eligibility (e.g., all dropship discounts and the $0.015 dropship pallet discount for pieces on pallets of 250 or more pounds that are dropshipped to DADCs or DSCFs). The only exceptions are the existing experimental Periodicals co-palletization and dropship discounts of $0.01 and $0.007 per piece. These will not apply to bundles using the proposed per-pound discounts. In other words, mailers may claim either the experimental per-piece or experimental per-editorial-pound discounts, but cannot claim both for the same mail bundles. However, mailers might claim the experimental per-piece discount for some bundles and experimental per-editorial-pound discounts for some other bundles on the same pallet if they are authorized to participate in the co-palletization experiments. Supplemental mailings (e.g., back issues not part of the mailing of the current issue) meeting the circulation requirement listed above (i.e., total mailed circulation not exceeding 75,000 copies including supplemental mailings, prepared after, and separate from, the original mailing) will be treated as separate mailings and will have to meet the same requirements for pieces to be eligible for the additional incentives (for co-palletization/dropshipment). That is, for the supplemental mailing, only pieces that cannot be prepared on destination ADC pallets of 250 or more pounds under the original presort before co-palletization will be eligible for the new co-palletization incentives.

While mailers will be expected to prepare pallets of at least 250 pounds, the Postal Service recognizes the difficulty in always accurately predicting co-palletized volumes and will allow mailers to claim the new discount for dropshipped pallets weighing less than 250 pounds. It is expected that such pallets will represent an insignificant portion of co-palletized mailings. Less than 250-pound pallets (except overflow pallets) will not be eligible for the existing pallet discounts (e.g., $0.015 for dropshipped mail on pallets of 250 or more pounds and $0.005 for mail on nondestinating entry pallets). To limit the scope of the experiment and simplify administration, any mail that is co-palletized on 5-digit or 3-digit pallets will not be entitled to the proposed co-palletization incentives.

Waiving of Finest-Level Pallet Requirement

In preparing a co-palletized mailing, mailers/consolidators cannot easily predict co-palletized volumes for each destination. Therefore, during the experiment, co-palletized mail will not be required to be placed on the finest level pallet possible. For example, even if a co-palletized ADC pallet were to contain more than 500 pounds to a particular SCF, an SCF pallet would not be required. Mailers/consolidators will be encouraged to periodically re-evaluate mail volumes for each ADC and SCF destination to determine whether additional SCF pallets can be created on a regular basis.

Documentation

The consolidator/mailer will provide documentation (e.g., Mail.dat files that can be printed, if necessary) only for the mail that is co-palletized, both before and after co-palletization. To substantiate that mail would have been prepared in sacks, the “before” documentation must be in Mail.dat or similar files that permit easy identification of mailings (e.g., by job ID, segment ID, and container) included in the co-palletization program, separate from mailings that are not included in the program. The “after” documentation must identify publications or segments with 250 or more pounds on a pallet (mail that does not qualify for added co-palletization incentives), and publications or segments with less than 250 pounds remaining for an ADC that do qualify for the new discounts. Documentation will be by title and version, segment, or edition, or by codes representing each title and version, segment, or edition. The consolidator/mailer will develop a new file (e.g., Mail.dat) for the mail after co-palletization showing how the mail was presorted and where it was entered. Data in the “after co-palletization” files will be prepared so that they can be easily reconciled with the “before” Mail.dat files to validate that proper postage has been paid for all pieces (e.g., the same job IDs and mailing segment IDs appear in “before” Mail.dat files and “after” documentation).

The primary goal of this documentation is to substantiate that, without co-palletization, the mail would have been prepared in sacks (i.e., ADC pallets of 250 or more pounds for any individual title, independently presorted version, or selectively bound pool could not have been made).

In addition to the above, for each title and version for which the per-pound discount is claimed, the mailer will have to provide a detailed listing documenting the distribution of total advertising and editorial pounds to each zone “before” co-palletization, based on origin entry of the mail at the plant where it is printed and presorted into bundles ready for co-palletization and mailing (e.g., a modified version of the “before” postage statement showing the zoned distribution of total copies, total pounds, and advertising pounds, if any, plus an added column showing editorial pounds). This listing will be provided for all publications claiming the discount, including publications with no advertising content. The mailer will also provide a detailed listing that shows the total editorial weight and experimental per-pound discount claimed for each title and version by zone, based on the original zones reported on the zone listing “before” co-palletization. For example, for 210 editorial pounds of mail that would have been entered in Zone 3, if entered in sacks at the origin mailer's plant, the “after” documentation might show for Zone 3: 120 editorial pounds qualifying for the DADC per-pound discount and 90 pounds qualifying for the DSCF per-pound discount.

The Postal Service retains the right to disallow any documentation showing a change in the office of origin entry if the physical printing of the title has not moved to a different location.

All other mailing documentation described in DMM P012 (i.e., USPS Qualification Report and Detailed Zone Listing) must be presented or made available at the time of acceptance with each co-palletized mailing.

Discounts

The proposed discounts in table 1 apply to the editorial pounds of the co-palletized mail prepared on an ADC or SCF pallet and entered at the destination ADC or SCF. The discounts vary by the zones skipped as a result of preparing and dropshipping mail on pallets. For example, as a result of co-palletization, 10,000 pounds of editorial material are entered at destination ADCs instead of origin ADCs (defined as the Postal Service facility that serves the plant where the mail is printed and presorted into packages before co-palletization). The original delivery zone for the mail is determined using the zone charge for the 3-digit ZIP Code for the origin plant. In this example, of the total 10,000 editorial pounds, if 3,400 pounds would have been mailed to addresses in Zone 6; 2,700 pounds would have been mailed to addresses in Zone 5; and the remaining 3,900 pounds would have been mailed to addresses in Zone 4, and the mail is now co-palletized and entered at the appropriate destination ADCs, then the value of the discount for that portion of the mailing would be ($0.073 × 3,400 = $248.20) plus ($0.050 × 2,700 = $135.00) plus ($0.028 × 3,900 = $109.20) for a total of $492.40.

Table 1.—Discounts for Co-Palletized Pieces Prepared on an ADC or SCF Pallet
Original zone | DADC | DSCF
Zones 1 & 2 | $.008 | $.014
Zone 3 | .013 | .019
Zone 4 | .028 | .034
Zone 5 | .050 | .056
Zone 6 | .073 | .079
Zone 7 | .101 | .107
Zone 8 | .125 | .131

Postage Statement

The Postal Service is issuing a new edition of postage statement PS Form 3541, Postage Statement—Periodicals One Issue or One Edition, which includes the new co-palletization per-editorial-pound discounts. Periodicals mailers must use this postage statement or an approved facsimile for mailings that qualify for and claim the new discounts.

Publications mailed under the CPP program may be included as part of a co-palletized mailing. Publishers may elect to (1) remove the co-palletized portion of a mailing job from the Centralized Postage Payment (CPP) consolidated postage statement and pay postage at the consolidation point, or (2) provide, to the preparer of the consolidated postage statement, information about the co-palletized portion of their mailing to be included on the consolidated postage statement submitted to the New York Rates and Classification Service Center.

Publishers that co-palletize multiple editions of the same publication must submit a consolidated postage statement and register of mailings.

Data Reporting

In order to collect data required by the PRC's Rules 54 and 64, and desired for Postal Service management's evaluation of the proposed discounts, the Postal Service will get the following monthly data from the experiment's participants using a spreadsheet similar to the one being used in the current experiment:

1. Number of pieces receiving the DADC discount.

2. Number of pieces receiving the DSCF discount.

3. Number of titles receiving one or both of the co-palletization discounts.

4. Number of containers that would have been sacks without co-palletization, as well as their weight and the number of addressed pieces.

5. Number of sacks after consolidation, as well as their weight and the number of addressed pieces.

6. Number of pallets qualifying for the DADC discount, as well as their weight and the number of addressed pieces.

7. Number of pallets qualifying for the DSCF discount, as well as their weight and the number of addressed pieces.

8. Editorial and total pounds shifting to destination ADCs from the various zones.

9. Editorial and total pounds shifting to destination SCFs from the various zones.

Application Process

Parties interested in participating in the experimental per-pound discounts must request approval from the Postal Service. Send your requests to the Manager, Mailing Standards, at 475 L'Enfant Plaza SW., Room 3436, Washington, DC 20260-3436. Your request must include the following information, which will be treated as confidential by the Postal Service:

1. A completed application form. Application forms will be available from the Manager, Mailing Standards, beginning September 1, 2004. Application forms may be requested via e-mail to Donald.T.Lagasse@usps.gov.

2. A process map and narrative describing mail movement from production through the co-palletization process to dispatch to destination entry Postal Service facilities.

3. Samples of presort documentation (before and after co-palletization), and a description of when and how presort documentation and postage statements are generated.

4. Samples of the detailed listing documenting the distribution of total advertising and editorial pounds to each zone “before” co-palletization, based on origin entry of the mail (i.e., the plant where it is printed and presorted into bundles ready for co-palletization and mailing).

5. An explanation of how data for mailings included under the co-palletization experiment will be collected and reported to the Postal Service, including whether the model spreadsheet provided by the Postal Service can be used.

6. A list of the publications to be included in the test initially and evidence that each publication has obtained the appropriate authorizations at the office(s) where mailings will be verified and postage paid. If the applicant is not a printer and/or is consolidating publications for other printers, a list of these printers must also be included with the application. If the location where mail will be consolidated currently does not have a detached mail unit (DMU), arrangements must be made to establish one with the local Post Office responsible for the acceptance and verification of mailings.

Requests to participate will be accepted beginning September 1, 2004. Applicants meeting all requirements for the co-palletization test will receive a 90-day conditional authorization. The Postal Service will give final approval after the successful completion of the 90-day conditional period.

The implementation date is October 3, 2004.

Accordingly, the Postal Service hereby adopts the following regulations on an interim basis. Although exempt from the notice and comment requirements of the Administrative Procedure Act (5 U.S.C. 410 (a)), the Postal Service invites comments on the following revisions to the Domestic Mail Manual (DMM™), incorporated by reference in the Code of Federal Regulations (CFR). See 39 CFR part 111.

PART 111—[AMENDED]

1. The authority citation for 39 CFR part 111 is revised to read as follows:

Authority: 5 U.S.C. 552(a); 39 U.S.C. 101, 401, 403, 414, 416, 3001-3011, 3201-3219, 3403-3406, 3621, 3626, 5001.

2. Amend the following sections of the Domestic Mail Manual (DMM) as set forth below:

Domestic Mail Manual (DMM)

* * * * *

G General Information

* * * * *

G900 Experimental Classification and Rate Filings

* * * * *

G990 Experimental Classifications and Rates

* * * * *

[Renumber current 993 as new 994 and add new 993 to read as follows:]

Outside-County Periodicals Co-Palletization Drop-ship Discounts for High-Editorial, Heavy-Weight, Small-Circulation Publications

1.0 Eligibility

1.1 Description

The standards in G993 apply to mailings that are produced by mailers and consolidators who are approved to use the outside-county Periodicals co-palletization drop-ship discounts for high-editorial, heavy-weight, small-circulation publications.

1.2 Rate Application

The outside-county co-palletization drop-ship per-pound discounts apply to pieces meeting the standards in G993.

1.3 Basic Standards

The basic standards for eligibility under G993 are as follows:

a. The advertising content of the publication must be 15 percent or less.

b. The weight per copy must be 9 ounces or more.

c. The total mailed circulation must be 75,000 addressed pieces or less (including all editions, issues, and supplemental mailings).

d. Each mailing must consist of at least two different Periodicals publications or two different editions, segments, or versions of a Periodicals publication. Each mailing must be presented with the correct postage statement(s) and register of mailing. Mailings consisting of different Periodicals publications must be accompanied by separate postage statements for each publication. Mailings consisting of different editions or versions of the same Periodicals publication must be accompanied by one consolidated postage statement and a register of mailings.

e. Each mailing must meet the documentation and postage payment standards outlined in 2.0 and P200.

f. Each mailing must be entered, and postage must be paid, at the post office where consolidation takes place, except that postage for publications authorized under the Centralized Postage Payment (CPP) system may be paid to the New York Rates and Classification Service Center (RCSC). Each publication included in a mailing under these standards must be authorized for original entry or additional entry at the post office where the co-palletized mailing is entered.

1.4 Discount Eligibility

To be eligible for the discounts, mailpieces must be:

a. Part of a Periodicals mailing meeting the standards in M200, M820, or M900.

b. Part of a mailing segment with less than 250 pounds per title or version per ADC destination, if independently presorted. This includes mail for an ADC service area that remains after finer levels of pallets are prepared.

c. Prepared as packages on pallets under M041 and M045, or under M900.

d. Prepared on either an ADC or SCF pallet of co-palletized pieces. Mailers may build on ADC or SCF pallets of 250 or more pounds prepared as part of the original presort. However, the pieces originally on these pallets (250 or more pounds per title or edition) do not qualify for the co-palletization discounts.

2.0 Documentation

Each mailing must be accompanied by documentation meeting the standards in P012, as well as any other mailing information requested by the USPS to support the postage claimed (e.g., advertising percentage and weight per copy). Documentation must be presented by title and version, segment, or edition; or by codes representing each title and version, segment, or edition included in the co-palletized mailing. In addition, documentation for the co-palletized mailing must:

a. Include a detailed listing documenting the distribution of total advertising and editorial pounds to each zone “before” co-palletization, based on origin entry of the mail (i.e., entry at, or at the local post office for, the plant where the mail is printed and presorted into bundles ready for co-palletization and mailing).

b. Upon request, include presort reports showing how the pieces would have been prepared prior to co-palletization.

c. Include presort and pallet reports showing how the co-palletized pieces are prepared and where they will be entered (DADC or DSCF).

d. Distinguish publications or segments that do not qualify for the co-palletization discounts (e.g., because there are 250 or more pounds to an ADC destination) from those that do qualify for the discounts (e.g., existing per piece co-palletization discounts and new per-pound discount).

e. Allow easy reconciliation with reports prepared to reflect how mail would have been prepared prior to co-palletization if requested to verify compliance with standards for discount eligibility.

3.0 Data Reporting

Each month, the mailer or consolidator must provide the following data via e-mail to copal@usps.gov in spreadsheet format using the model spreadsheet and timelines provided by the USPS:

a. Number of titles receiving the new co-palletization discounts for high editorial publications.

b. Number of sacks that would have been prepared without co-palletization, as well as the total weight, the editorial weight, and the number of addressed pieces that would have been in these sacks, by destination ADC and destination SCF.

c. Number of sacks prepared after co-palletization, as well as the weight and the number of addressed pieces in these sacks.

d. Number of pallets containing mail qualifying for the ADC co-palletization discounts, as well as the weight and the number of addressed pieces receiving the ADC discount on these pallets. Pallets containing some bundles that use the per-piece discounts and some bundles that use the per-pound discount must be counted separately.

e. Number of pallets containing mail qualifying for the SCF co-palletization discounts, as well as the weight and the number of addressed pieces receiving the SCF discount on these pallets. Pallets containing some bundles that use the per-piece discounts and some bundles that use the per-pound discount must be counted separately.

4.0 Discounts

4.1 Basic Standards

Pieces must be prepared on one of the following:

a. An SCF or ADC pallet of 250 or more pounds drop shipped to the appropriate DADC.

b. An SCF pallet of 250 or more pounds drop shipped to the appropriate DSCF.

c. An overflow DSCF or DADC pallet drop shipped to the appropriate DSCF or DADC.

d. An ADC pallet weighing between 100 and 250 pounds and drop shipped to the appropriate DADC.

4.2 Discounts and Description

The discounts in exhibit 4.2 are applicable to editorial pounds of the co-palletized pieces prepared on an ADC or SCF pallet and entered at the destination ADC and SCF. The discounts are dependent on the applicable zones that would have resulted from origin entry of the publications without co-palletization.

Exhibit 4.2.—Discounts for Co-Palletized Pieces Prepared on an ADC or SCF Pallet
Origin zone | DADC | DSCF
Zones 1 & 2 | $.008 | $.014
Zone 3 | .013 | .019
Zone 4 | .028 | .034
Zone 5 | .050 | .056
Zone 6 | .073 | .079
Zone 7 | .101 | .107
Zone 8 | .125 | .131

5.0 Request To Participate

A mailer or consolidator may request approval to use the outside-county Periodicals co-palletization drop-ship per-pound discounts by submitting a written request to the Manager, Mailing Standards (see G043 for address). The request must be accompanied by the following:

a. A completed application form (available from the Manager, Mailing Standards).

b. A process map and narrative demonstrating how and where presort and co-palletization reports (including “before” and “after” data) are created as they relate to mail movement and consolidation of packages to be co-palletized. The map and narrative must also describe mail movement from production through the co-palletization process including dispatch to destination entry Postal Service facilities.

c. Samples of all required documentation that will be used to substantiate eligibility for the discounts, and of the documentation that must be provided at the time of mailing, including “before” and “after” reports and postage statements. The sample reports must demonstrate:

(1) How the co-palletized portion of the mailing is segregated from other mailing segments on the “before” reports.

(2) How mailing jobs, mailing segments, and containers will be identified in both “before” and “after” reports to allow reconciliation of the reports.

(3) How pieces appearing on the “after” reports that qualify for the co-palletization discounts (mailing segments with less than 250 pounds to an ADC) are differentiated from those that do not (mailing segments with 250 or more pounds to an ADC). How pieces receiving the per-pound discounts are differentiated from those receiving the per-piece discounts.

d. A detailed listing documenting the distribution of total advertising and editorial pounds to each zone “before” co-palletization, based on origin entry of the mail (i.e., entry at the plant or the local post office for the plant, where it is printed and presorted into bundles ready for co-palletization and mailing).

e. An explanation of how data for mailings included under the co-palletization experiment will be collected and reported to the USPS, including whether the model spreadsheet provided by the USPS can be used.

f. A list of the publications to be included initially in the test and evidence that each publication has obtained the appropriate additional entry authorization at the office where mailings will be verified and postage paid. The list must indicate if the publications are authorized under the Centralized Postage Payment (CPP) system. If the applicant is not a printer and/or is consolidating publications for other printers, a list of those printers must be included with the application.

6.0 Decision on Request

The manager, Mailing Standards, approves or denies a written request to use the experimental outside-county Periodicals co-palletization per-pound discounts. If the application is approved, the mailer or consolidator will be notified in writing by the manager, Mailing Standards. Initial approval is for a conditional 90-day period. When the mailer or consolidator has demonstrated the ability to prepare and enter mailings under the standards in G993, final authorization will be granted. If the application is denied, the mailer or consolidator may file at a later date or submit additional information needed to support the request.

7.0 USPS Suspension

The manager, Mailing Standards, may suspend at any time an approval to use the per-pound discounts when there is an indication that Postal Service revenue is not fully protected. The manager will notify the participant in writing of the decision. The suspension becomes effective upon the mailer's receipt of the notification.

* * * * *

We will publish an appropriate amendment to 39 CFR 111 to reflect these changes if the proposal is adopted.

Neva R. Watson,
Attorney, Legislative.

[FR Doc. 04-19976 Filed 9-1-04; 8:45 am]

BILLING CODE 7710-12-P